FEDERAL COMMUNICATIONS COMMISSION

[FR ID 304884]

Sunshine Act; Open Commission Meeting Thursday, July 24, 2025

July 17, 2025.

The Federal Communications Commission will hold an Open Meeting on the subjects listed below on Thursday, July 24, 2025, which is scheduled to commence at 10:30 a.m. in the Commission Meeting Room of the Federal Communications Commission, 45 L Street NE, Washington, DC.

While attendance at the Open Meeting is available to the public, the FCC headquarters building is not open access and all guests must check in with and be screened by FCC security at the main entrance on L Street. Attendees at the Open Meeting will not be required to have an appointment but must otherwise comply with protocols outlined at: www.fcc.gov/visit. Open Meetings are streamed live at: www.fcc.gov/live and on the FCC's YouTube channel.

Item No. | Bureau | Subject
1 | WIRELINE COMPETITION | Title: Reducing Barriers to Network Improvements and Service Changes (WC Docket No. 25-209); Accelerating Network Modernization (WC Docket No. 25-208).
|  | Summary: The Commission will consider a Notice of Proposed Rulemaking that proposes and seeks comment on revisions to the Commission's network change disclosure rules and section 214(a) discontinuance processes to eliminate regulatory barriers and costs, thus encouraging the swift transition to IP-based networks and advanced communications services for consumers.
2 | WIRELINE COMPETITION | Title: Removing Barriers to Broadband Deployment and Investment (WC Docket No. 17-84).
|  | Summary: The Commission will consider a Fifth Report and Order, Fourth Further Notice of Proposed Rulemaking, and Orders on Reconsideration to promote broadband infrastructure deployment by ensuring greater collaboration between utilities and attachers, establishing a timeline for large pole attachment requests, implementing other improvements to the pole attachment timeline, and speeding up the contractor approval process. The Commission would seek comment on ways to further facilitate the pole attachment process and on defining the term “pole” for purposes of section 224, and would resolve two petitions for reconsideration of prior Commission action.
3 | ECONOMICS AND ANALYTICS | Title: Enhancing National Security Through the Auction of AWS-3 Spectrum Licenses (GN Docket No. 25-70); Applying New Average Annual Gross Revenue Benchmarks for Small Business Bidding Credits (GN Docket No. 25-71); and Amendment of the Commission's Rules with Regard to Commercial Operations in the 1695-1710 MHz, 1755-1780 MHz, and 2155-2180 MHz Bands (GN Docket No. 13-185).
|  | Summary: The Commission will consider a Report and Order and Second Report and Order that would update 10-year-old AWS-3 service-specific designated entity eligibility requirements to bring those requirements, along with related eligibility requirements contained in the part 1 competitive bidding rules, in line with the Commission's current auctions practice.
4 | GENERAL COUNSEL | Title: Streamlined Repeal of Outdated and Obsolete Rules (GN Docket No. 25-133).
|  | Summary: The Commission will consider a Direct Final Rule that would repeal certain rules identified as outdated and obsolete via a direct final rule procedure and clarify the potential use of the direct final rule procedure in other circumstances in the future.
5 | CONSUMER AND GOVERNMENTAL AFFAIRS | Title: Protecting Consumers from Unauthorized Carrier Changes and Related Unauthorized Charges (CG Docket No. 17-169); and Truth-in-Billing and Billing Format (CC Docket No. 98-170).
|  | Summary: The Commission will consider a Notice of Proposed Rulemaking proposing to modernize and simplify the Commission's slamming and Truth-in-Billing rules to reflect the evolution of the telecommunications marketplace, retain core consumer protections against unauthorized carrier switches and charges, and reduce regulatory burdens that can stifle innovation.
6 | WIRELINE COMPETITION | Title: 988 Text Georouting to Improve Access to the 988 Lifeline (WC Docket No. 18-336).
|  | Summary: The Commission will consider a Fourth Report and Order that would adopt rules to require wireless providers to transmit data that enables text messages sent to the 988 Lifeline to be routed to the closest local crisis center based on a person's general geographic location.
7 | MANAGING DIRECTOR | Title: Personnel Action #25-09—Promotion. Summary: The Commission will consider a personnel action.
8 | MANAGING DIRECTOR | Title: Personnel Action #25-10—Promotion. Summary: The Commission will consider a personnel action.
9 | MANAGING DIRECTOR | Title: Personnel Action #25-11—Promotion. Summary: The Commission will consider a personnel action.
10 | MANAGING DIRECTOR | Title: Personnel Action #25-12—Promotion. Summary: The Commission will consider a personnel action.
11 | MANAGING DIRECTOR | Title: Personnel Action #25-13—Promotion. Summary: The Commission will consider a personnel action.
12 | PUBLIC SAFETY AND HOMELAND SECURITY | Title: Appointment of the Defense Commissioner. Summary: The Commission will consider a personnel action regarding the appointment of the Defense Commissioner.

* * * * *

The meeting will be webcast at: www.fcc.gov/live. Open captioning will be provided as well as a text only version on the FCC website. Other reasonable accommodations for people with disabilities are available upon request. In your request, include a description of the accommodation you will need and a way we can contact you if we need more information. Last minute requests will be accepted but may be impossible to fill. Send an email to: fcc504@fcc.gov or call the Consumer & Governmental Affairs Bureau at 202-418-0530.

Press Access—Members of the news media are welcome to attend the meeting and will be provided reserved seating on a first-come, first-served basis. Following the meeting, the Chairman may hold a news conference in which he will take questions from credentialed members of the press in attendance. Also, senior policy and legal staff will be made available to the press in attendance for questions related to the items on the meeting agenda. Commissioners may also choose to hold press conferences. Press may also direct questions to the Office of Media Relations (OMR): MediaRelations@fcc.gov. Questions about credentialing should be directed to OMR.

Additional information concerning this meeting may be obtained from the Office of Media Relations, (202) 418-0500. Audio/Video coverage of the meeting will be broadcast live with open captioning over the internet from the FCC Live web page at www.fcc.gov/live.

Federal Communications Commission.
Marlene Dortch,
Secretary.

[FR Doc. 2025-13842 Filed 7-21-25; 4:15 pm]

BILLING CODE 6712-01-P